DEPARTMENT OF THE INTERIOR

National Park Service

Notice of Intent to Repatriate Cultural Items in the Possession of the U.S. Department of Justice, Federal Bureau of Investigation (FBI), Louisville, KY

AGENCY: National Park Service, Interior.

ACTION: Notice.

Notice is hereby given in accordance with the provisions of the Native American Graves Protection and Repatriation Act (NAGPRA), 43 CFR 10.10 (a)(3), of the intent to repatriate cultural items in the possession of the U.S. Department of Justice, Federal Bureau of Investigation (FBI), Louisville, KY, that meet the definition of “unassociated funerary object” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

On February 18, 1999, a search warrant was executed at the home of Sean Adam Long near Madisonville, KY. Twenty-six items were recovered by FBI agents during the search that have been determined to meet the definition of unassociated funerary objects. These cultural items are 14 animal bones, 1 item made from animal bone, 1 stone tubular pipe fragment, 1 fragment of a Caborn-Welborn ceramic pot (Late Mississippian Period), 1 coarse shell-tempered ceramic vessel with strap handles and with soot on exterior, 1 polished and drilled shell gorget, 1 polished bone tube, 1 box turtle carapace fragment, 1 marine gastropod, 1 Mississippian Plain water bottle, 1 polished stone atlatl weight, 1 cannel coal bead, and 1 black stone gorget.

In an interview with FBI officials, Mr. Long indicated that the above-mentioned items were originally recovered from specific burial sites located in Kentucky.

A detailed assessment of the unassociated funerary objects was made by University of Louisville Staff Archaeologist Philip J. DiBlasi in consultation with representatives of the Absentee-Shawnee Tribe of Indians of Oklahoma; Delaware Nation, Oklahama; Delaware Tribe of Indians, Oklahoma; Eastern Band of Cherokee Indians of North Carolina; Eastern Shawnee Tribe of Oklahoma; Miami Tribe of Oklahoma; Peoria Tribe of Indians of Oklahoma; and Shawnee Tribe, Oklahoma.

Archeological evidence indicates that these items were most likely buried during the Prehistoric period (before A.D. 1740). Archeological and historical evidence indicates that the Native American population that lived in Kentucky during the Prehistoric period is ancestral to the present-day Delaware Nation, Oklahoma; Delaware Tribe of Indians, Oklahoma; Eastern Band of Cherokee Indians of North Carolina; Miami Tribe of Oklahoma; and Peoria Tribe of Indians of Oklahoma.

On March 7, 2001, Sean Adam Long pleaded guilty in U.S. District Court in Owensboro, KY to three counts of illegal trafficking in Native American human remains [18 U.S.C. 1170 (a)] and one count of knowingly making a materially false, fictitious, or fraudulent statement or representation [18 U.S.C. 1001]. A single count of trafficking in interstate or foreign commerce in archaeological resources the excavation, removal, sale, purchase, exchange, transportation or receipt of which was wrongful under State or local law [16 U.S.C. 470ee (c)] was dismissed in return for Long’s plea to making a false statement to FBI agents.

Based on the above-mentioned information, FBI officials determined that, pursuant to 43 CFR 10.2 (d)(2)(ii), these 26 cultural items are reasonably believed to have been placed with or near individual human remains at the time of death or later as part of a death rite or ceremony and are believed to have been removed from specific burial sites of Native American individuals. FBI officials determined that, pursuant to 43 CFR 10.2 (e), there is a relationship of shared group identity that can be reasonably traced between these unassociated funerary objects and the Delaware Nation, Oklahoma; Delaware Tribe of Indians, Oklahoma; Eastern Band of Cherokee Indians of North Carolina; Miami Tribe of Oklahoma; and Peoria Tribe of Indians of Oklahoma.

Two other items seized during the search of Mr. Long’s residence do not appear to meet the statutory definition of “associated funerary object.” Officials of the FBI have determined, pursuant to standard practice regarding personal property, Manual of Administrative Operations and Procedures, Sect. 2-4.4.1 (5), that these two items are subject to return to the appropriate Indian tribe.

This notice has been sent to officials of the Absentee-Shawnee Tribe of Indians of Oklahoma; Delaware Nation, Oklahoma; Delaware Tribe of Indians, Oklahoma; Eastern Band of Cherokee Indians of North Carolina; Eastern Shawnee Tribe of Oklahoma; Miami Tribe of Oklahoma; Peoria Tribe of Indians of Oklahoma; and Shawnee Tribe, Oklahoma. Representatives of any other Indian tribe that believes itself to be culturally affiliated with these unassociated funerary objects should contact Randy Ream, Assistant United States Attorney, 510 West Broadway, 10th Floor, Louisville, KY 40202, phone (502) 582-5911, before September 30, 2002. Repatriation of these unassociated funerary objects to the Delaware Nation, Oklahoma; Delaware Tribe of Indians, Oklahoma; Eastern Band of Cherokee Indians of North Carolina; Miami Tribe of Oklahoma; and Peoria Tribe of Indians of Oklahoma may begin after that date if no additional claimants come forward.

Dated: August 1, 2002
Robert Stearns,
Manager, National NAGPRA Program.

[FR Doc. 02-21997 Filed 8-28-02; 8:45 am]

BILLING CODE 4310-70-S